DEPARTMENT OF COMMERCE

National Oceanic and Atmospheric Administration

RIN 0648-XC065

Endangered and Threatened Species; Take of Anadromous Fish

AGENCY: National Marine Fisheries Service (NMFS), National Oceanic and Atmospheric Administration (NOAA), Commerce.

ACTION: Notice; re-opening of public comment period.

SUMMARY: On May 9, 2012, the National Marine Fisheries Service (NMFS) announced the availability for public review of four Hatchery and Genetic Management Plans (HGMPs) submitted by the Oregon Department of Fish and Wildlife (ODFW) pursuant to the protective regulations promulgated for Pacific salmon and steelhead under the Endangered Species Act (ESA). The HGMPs specify the operations of four hatchery programs rearing salmon and steelhead in the Sandy River subbasin within the State of Oregon. The availability of a draft environmental assessment, evaluating the anticipated effects of NMFS' proposed approval of those HGMPs pursuant to the National Environmental Policy Act (NEPA), was included in the announcement. The announcement opened a 30-day public comment period. In this notice, NMFS is re-opening the public comment period on these four HGMPs and the associated draft EA to July 9, 2012.

DATES: Comments must be received at the appropriate address or fax number (see ADDRESSES) no later than 5 p.m. Pacific time on July 9, 2012

ADDRESSES: Written comments on the application should be addressed to the NMFS Salmon Management Division, 1201 NE. Lloyd Boulevard, Suite 1100, Portland, OR 97232, or faxed to 503-872-2737. Comments may be submitted by email. The mailbox address for providing email comments is: SandyHatcheries.nwr@noaa.gov. Include in the subject line of the email comment the following identifier: Comments on Oregon's Sandy hatchery plans.

FOR FURTHER INFORMATION CONTACT: Rich Turner, at phone number: (503) 736-4737, or email: Rich.Turner@noaa.gov.

SUPPLEMENTARY INFORMATION:

Species Covered in This Notice

Chinook salmon (Oncorhynchus tshawytscha): threatened, naturally produced and artificially propagated Lower Columbia River.

Chum salmon (O. keta): threatened, naturally produced and artificially propagated Columbia River.

Coho salmon (O. kisutch): threatened, naturally produced and artificially propagated Lower Columbia River.

Steelhead (O. mykiss): threatened, naturally produced and artificially propagated Lower Columbia River.

Pacific eulachon (Thaleichthys pacificus): threatened, naturally produced southern distinct population segment.

ODFW has submitted to NMFS four HGMPs describing hatchery programs that release salmon and steelhead into the Sandy River in a manner that is intended to comply with requirements of the ESA under limit 5 of the 4(d) Rule. The programs are designed to meet mitigation responsibilities related to impacts from development in the Sandy River and Columbia River basins by providing hatchery fish to support fishing opportunities while minimizing potential risks to natural-origin spring Chinook salmon, coho salmon, and winter steelhead populations, consistent with Oregon's Lower Columbia River Conservation and Recovery Plan for Oregon Populations of Salmon and Steelhead.

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment. NMFS received requests from the Native Fish Society and the Pacific Rivers Council to extend the public comment period. The comment period for the proposed policy was to end on June 8, 2012. NMFS is re-opening the comment period until July 9, 2012, to allow for more opportunity for public comment (see DATES and ADDRESSES).

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: June 6, 2012.
Angela Somma,
Chief, Endangered Species Division, Office of Protected Resources, National Marine Fisheries Service.

[FR Doc. 2012-14155 Filed 6-8-12; 8:45 am]

BILLING CODE 3510-22-P